INTERNATIONAL TRADE COMMISSION

[Investigation No. 337-TA-1105]

Certain Programmable Logic Controller (PLCs), Components Thereof, and Products Containing Same; Commission Determination Not To Review an Initial Determination Terminating the Investigation in Its Entirety; Termination of Investigation

AGENCY: U.S. International Trade Commission.

ACTION: Notice.

SUMMARY: Notice is hereby given that the U.S. International Trade Commission has determined not to review an initial determination (“ID”) (Order No. 24) granting a motion by Complainant Radwell International, Inc., of Willingboro, New Jersey (“Radwell”) to terminate the above-captioned investigation in its entirety by reason of withdrawal of its complaint. The investigation is hereby terminated.

FOR FURTHER INFORMATION CONTACT: Carl P. Bretscher, Office of the General Counsel, U.S. International Trade Commission, 500 E Street SW, Washington, DC 20436, telephone 202-205-2382. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on March 29, 2018, based on a Complaint filed by Radwell. 83 FR 13515-16 (Mar. 29, 2018). The Complaint alleges violations of Section 337 of the Tariff Act of 1930, as amended, 19 U.S.C. 1337, in the importation into the United States, sale for importation, and sale within the United States after importation of certain programmable logic controllers (“PLCs”), components thereof, and products containing same by reason of: (1) A conspiracy to fix resale prices in violation of Section 1 of the Sherman Act; (2) a conspiracy to boycott resellers in violation of Section 1 of the Sherman Act; and (3) monopolization in violation of Section 2 of the Sherman Act, the threat or effect of which is to destroy or substantially injure a domestic industry in the United States, or to restrain or monopolize trade and commerce in the United States. Id. The notice of investigation names Rockwell Automation, Inc. (“Rockwell”) of Milwaukee, Wisconsin as Respondent. Id. The Office of Unfair Import Investigations (“OUII”) was also named as a party to the investigation. Id. Non-party North Coast Electric Company was later added as an intervenor. Comm'n Notice (July 27, 2018) (aff'g Order No. 10 (July 9, 2018)), 83 FR 37516 (Aug. 1, 2018).

On November 8, 2018, Radwell filed an opposed motion to terminate the investigation in its entirety by withdrawal of its complaint, pursuant to Commission Rule 210.21(a)(1), 19 CFR 210.21(a)(1). On November 19, 2018, Rockwell filed an opposition to the motion. On the same date, OUII filed a response supporting Radwell's motion.

On November 29, 2018, the ALJ issued the subject ID (Order No. 24) granting Radwell's motion to terminate the investigation. The ALJ found no extraordinary circumstance that precluded terminating the investigation based on Radwell's withdrawal of the complaint.

On December 7, 2018, Rockwell filed a petition for review and reversal of the ID. On December 14, 2018, both Radwell and OUII filed oppositions to Rockwell's petition.

Upon consideration of the subject ID, the petition for review and responses thereto, and relevant statutory and judicial authority, the Commission has determined not to review the subject ID and accordingly terminates the above-captioned investigation.

The authority for the Commission's determination is contained in Section 337 of the Tariff Act of 1930, as amended (19 U.S.C. 1337), and in Part 210 of the Commission's Rules of Practice and Procedure (19 CFR part 210).

By order of the Commission.
Issued: December 21, 2018.
Lisa Barton,
Secretary to the Commission.

[FR Doc. 2018-28349 Filed 12-28-18; 8:45 am]

BILLING CODE 7020-02-P